DEPARTMENT OF ENERGY

Federal Energy Regulatory Commission

Notice of Attendance at PJM INterconnection, L.L.C., Meetings

The Federal Energy Regulatory Commission (Commission) hereby gives notice that members of the Commission and Commission staff may attend upcoming PJM Interconnection, L.L.C., (PJM) meetings, as well as other subcommittee or task force meetings that are not currently scheduled, but that are typically scheduled on short notice or meetings that are scheduled on short notice based on items arising from the agenda as posted on the PJM Web site.¹ The Commission and Commission staff may attend the following meetings:

¹ For example, PJM Subcommittees and Task Forces of the standing committees (Operating, Planning and Market Implementation) and senior standing committees (Members and Markets and Reliability) meet on a variety of different topics; they convene and dissolve on an as-needed basis. Therefore, staff may monitor different meetings as issues arise and according to postings on the PJM Web site.

PJM Members Committee

• March 30, 2011 (Wilmington, DE)

• March 31, 2011 (Wilmington, DE)

• May 17-19, 2011 (Cambridge, MD)

• June 23, 2011 (Wilmington, DE)

• August 25, 2011 (Wilmington, DE)

• September 22, 2011 (Wilmington, DE)

• December 8, 2011 (Wilmington, DE)

PJM Markets and Reliability Committee

• March 23, 2011 (Wilmington, DE)

• April 27, 2011 (Wilmington, DE)

• June 22, 2011 (Wilmington, DE)

• July 20, 2011 (Wilmington, DE)

• August 17, 2011 (Wilmington, DE)

• September 15, 2011 (Wilmington, DE)

• October 12, 2011 (Wilmington, DE)

• November 16, 2011 (Wilmington, DE)

• December 22, 2011 (Wilmington, DE)

PJM Market Implementation Committee

• March 17, 2011 (Wilmington, DE)

• April 12, 2011 (Wilmington, DE)

• May 10, 2011 (Wilmington, DE)

• June 14, 2011 (Wilmington, DE)

• July 12, 2011 (Wilmington, DE)

• August 9, 2011 (Wilmington, DE)

• September 13, 2011 (Wilmington, DE)

• October 4, 2011 (Wilmington, DE)

• November 1, 2011 (Wilmington, DE)

• December 13, 2011 (Wilmington, DE)

PJM Planning Committee and Transmission Expansion Advisory Committee

• April 15, 2011 (Wilmington, DE)

• May 12, 2011 (Wilmington, DE)

• June 9, 2011 (Wilmington, DE)

• July 7, 2011 (Wilmington, DE)

• August 4, 2011 (Wilmington, DE)

• September 8, 2011 (Wilmington, DE)

• October 5, 2011 (Wilmington, DE)

• November 3, 2011 (Wilmington, DE)

• December 15, 2011 (Wilmington, DE)

PJM Liaison Committee

• July 26, 2011 (TBD)

• October 19, 2011 (TBD)

PJM Governance Assessment Special Team

• March 15, 2011 (Wilmington, DE)

• March 16, 2011 (Wilmington, DE)

• March 31-April 1, 2011 (Wilmington, DE)

• April 20, 2011 (Wilmington, DE)

• May 5-6, 2011 (Radnor, PA)

• May 25-26, 2011 (Radnor, PA)

• June 2-3, 2011 (Radnor, PA)

• June 16-17, 2011 (Radnor, PA)

PJM Sub-Regional RTEP Committee

(Mid-Atlantic, Southern and Western Regions)

• Various Dates

PJM Load Analysis Subcommittee

• Various Dates

PJM Credit Subcommittee

• Various Dates

PJM Cost Development Subcommittee

• Various Dates

PJM Transaction Issues Senior Task Force

• Various Dates

PJM Regional Planning Process Task Force

• Various Dates

PJM Intermittent Resources Task Force

• Various Dates

PJM Load Management Task Force

• Various Dates

PJM Demand Response Dispatch Senior Task Force

• Various Dates

PJM Regulation Performance Senior Task Force

• Various Dates

The discussions at each of the meetings described above may address matters at issue in pending proceedings before the Commission including the following:

Docket No. EL05-121, PJM Interconnection, L.L.C.

Docket No. ER06-456, PJM Interconnection, L.L.C.

Docket No. ER08-686, Pepco Holdings, Inc.

Docket No. EL08-47, PJM Interconnection, L.L.C.

Docket No. ER08-386, Potomac-Appalachian Transmission Highline, LLC

Docket No. ER09-1256, Potomac-Appalachian Transmission Highline, LLC

Docket No. ER09-1063, PJM Interconnection, L.L.C.

Docket No. ER09-1148, PPL Electric Utilities Corporation

Docket No. ER10-159, Public Service Electric and Gas Company

Docket No. EL10-40, EPIC Merchant Energy NJ/PA, L.P., v. PJM Interconnection, L.L.C.

Docket Nos. ER10-253 and EL10-14, Primary Power, LLC

Docket Nos. ER10-1562 and ER10-2254, Duke Energy Ohio, Inc. and Duke Energy Kentucky, Inc.

Docket No. EL10-52, Central Transmission, LLC v. PJM Interconnection, L.L.C.

Docket No. EL11-20, PJM Power Providers Group v. PJM Interconnection, L.L.C.

Docket No. ER11-2688, PSEG Energy Resources & Trade LLC and PSEG Fossil LLC

Docket No. EL10-63, EnerNOC, Inc. v. FirstEnergy

Docket No. EL11-23, EnerNOC, Inc.

Docket No. ER11-2183, American Electric Power Service Corporation

Docket No. ER11, 2074, PJM Interconnection, L.L.C.

Docket No. ER11-2622, PJM Interconnection, L.L.C.

Docket No. ER11-2288, PJM Interconnection, L.L.C.

Docket No. ER11-2929, PJM Interconnection, L.L.C.

Docket Nos. ER11-2875 and EL11-20, PJM Interconnection, L.L.C.

Docket Nos. ER11-2814 and ER11-2815, PJM Interconnection, L.L.C. and American Transmission Systems, Inc.

Docket No. EL11-25, PPL EnergyPlus, LLC v. PJM Interconnection, L.L.C.

Docket No. RM04-7, Market-Based Rates for Wholesale Sales of Electric Energy, Capacity, and Ancillary Services by Public Utilities

Docket No. RM10-11, Integration of Variable Energy Resources

Docket No. RM10-15, Mandatory Reliability Standards for Interconnection Reliability Operating Limits

Docket No. RM10-16, System Restoration Reliability Standards

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: March 16, 2011.
Kimberly D. Bose,
Secretary.

[FR Doc. 2011-6743 Filed 3-22-11; 8:45 am]

BILLING CODE 6717-01-P